GENERAL SERVICES ADMINISTRATION

Technical Support Division

Notice of Availability of Draft Environmental Impact Statement (DEIS); Proposed U.S. Courthouse, Springfield, MA

Pursuant to Section 102(2)(C) of the National Environmental Policy Act (NEPA) of 1969, as amended, as implemented by the Council on Environmental Quality (40 CFR parts 1500-1508), the General Services Administration (GSA) has filed with the U.S. Environmental Protection Agency and made available to other government and interested private parties, a Draft Environmental Impact Statement (DEIS) for the construction of a U.S. Courthouse in the City of Springfield, Hampden County, Massachusetts.

The DEIS is on file at the Springfield City Hall, Clerk's Office, 36 Court Street; Springfield Public Library, Reference Desk, 220 State Street; and General Services Administration, 10 Causeway Street, Ninth Floor, Boston, Massachusetts.

Additional information may be obtained from the General Services Administration, Region 1, Attention: Frank Saviano, Project Manager, 10 Causeway Street, Room 975, Boston, MA 02222. Telephone 617-565-5494; FAX 617-565-5967.

Written comments regarding the DEIS may be submitted until July 6, 2000 and should be addressed to the General Services Administration in care of the above noted individual.

A public hearing is scheduled for June 13, 2000 in the Second Floor Meeting Room, Springfield City Hall, 36 Court Street, Springfield, Massachusetts. The hearing will begin at 4 p.m. and remain open until 7 p.m. or until all comments have been received.

Issued in Boston, Massachusetts on May 15, 2000.
George Klueber,
Portfolio Manager.

[FR Doc. 00-12924 Filed 5-22-00; 8:45 am]

BILLING CODE 6820-23-M